SECURITIES AND EXCHANGE COMMISSION

Sunshine Act Meeting

Notice is hereby given, pursuant to the provisions of the Government in the Sunshine Act, Public Law 94-409, that the Commission will host the SEC-NYU Dialogue on Securities Markets—Exchange-Traded Products (ETPs) on Friday, September 8, 2017 beginning at 9:15 a.m., in the Auditorium, Room L-002.

The event is scheduled to include welcome remarks by SEC Commissioner Michael Piwowar, concluding remarks by SEC Commissioner Kara Stein and panel discussions that Commissioners may attend. The panel discussions will explore market impacts from the growth in ETPs, potential implications for investors who hold ETPs, and where the ETP market is headed. This Sunshine Act notice is being issued because a majority of the Commission may attend the meeting.

For further information, please contact Brent J. Fields from the Office of the Secretary at (202) 551-5400.

Dated: August 31, 2017.
Brent J. Fields,
Secretary.

[FR Doc. 2017-18933 Filed 9-1-17; 11:15 am]

BILLING CODE 8011-01-P